BUREAU OF CONSUMER FINANCIAL PROTECTION

12 CFR CH. X

Semiannual Regulatory Agenda

AGENCY: Bureau of Consumer Financial Protection.

ACTION: Semiannual regulatory agenda.

SUMMARY: The Consumer Financial Protection Bureau (Bureau) is publishing this agenda as part of the Spring 2022 Unified Agenda of Federal Regulatory and Deregulatory Actions. The Bureau reasonably anticipates having the regulatory matters identified below under consideration during the period from June 1, 2022 to May 31, 2023. The next agenda will be published in Fall 2022 and will update this agenda through Fall 2023. Publication of this agenda is in accordance with the Regulatory Flexibility Act (5 U.S.C. 601 et seq.).

DATES: This information is current as of April 1, 2022.

ADDRESSES: Consumer Financial Protection Bureau, 1700 G Street NW, Washington, DC 20552.

FOR FURTHER INFORMATION CONTACT: A staff contact is included for each regulatory item listed herein. If you require this document in an alternative electronic format, please contact CFPB_Accessibility@cfpb.gov.

SUPPLEMENTARY INFORMATION: The Bureau is publishing its Spring 2022 Agenda as part of the Spring 2022 Unified Agenda of Federal Regulatory and Deregulatory Actions, which is coordinated by the Office of Management and Budget (OMB) under Executive Order 12866. The agenda lists the regulatory matters that the Bureau reasonably anticipates having under consideration during the period from June 1, 2022 to May 31, 2023, as described further below.¹ The complete Unified Agenda is available to the public at the following website: http://www.reginfo.gov.

Consistent with procedures established by OMB's Office of Information and Regulatory Affairs,² the Bureau's agenda is divided into six sections: pre-rule stage; proposed rule stage; final rule stage; long-term actions, and completed actions. Generally, the pre-rule through final rule stages sections list items the agency plans to issue within the next 12 months. The long-term actions are listed for informational purposes, if a regulatory action is anticipated beyond that one-year time frame. Completed actions are those that have been published as final or are withdrawn.

Dated: April 1, 2022.
Rohit Chopra,
Director, Consumer Financial Protection Bureau.

Consumer Financial Protection Bureau—Final Rule Stage
Sequence No. | Title | Regulation Identifier No.
275 | Small Business Lending Data Collection Under the Equal Credit Opportunity Act | 3170-AA09

CONSUMER FINANCIAL PROTECTION BUREAU (CFPB)

Final Rule Stage

275. Small Business Lending Data Collection Under the Equal Credit Opportunity Act [3170-AA09]

Legal Authority: 15 U.S.C. 1691c-2

Abstract: Section 1071 of the Dodd-Frank Wall Street Reform and Consumer Protection Act (Dodd-Frank Act) amended the Equal Credit Opportunity Act (ECOA) to require, subject to rules prescribed by the Bureau, financial institutions to report information concerning credit applications made by women-owned, minority-owned, and small businesses. On October 8, 2021, a Notice of Proposed Rulemaking (NPRM) was published in the Federal Register. The Bureau's next action for the section 1071 rulemaking is the issuance of a final rule.

Timetable:

Action | Date | FR Cite
Request for Information | 05/15/17 | 82 FR 22318
Request for Information Comment Period End | 09/14/17
SBREFA Outline | 09/15/20
Pre-Rule Activity—SBREFA Report | 12/14/20
NPRM | 10/08/21 | 86 FR 56356
NPRM Comment Period End | 01/06/22
Final Rule | 03/00/23

Regulatory Flexibility Analysis Required: Yes.

Agency Contact: Kristine Andreassen, Office of Regulations, Consumer Financial Protection Bureau, Washington, DC 20552, Phone: 202 435-7700.

¹ The listing does not include certain routine, frequent, or administrative matters. The Bureau is reporting information for this Unified Agenda in a manner consistent with past practice.

² See https://www.reginfo.gov/public/jsp/eAgenda/UA_About.myjsp.

RIN: 3170-AA09

[FR Doc. 2022-14616 Filed 8-5-22; 8:45 am]

BILLING CODE 4810-AM-P